DEPARTMENT OF HOMELAND SECURITY

Federal Emergency Management Agency

[Docket ID FEMA-2020-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of December 30, 2020, has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Mohave County, Arizona and Incorporated Areas
Docket No.: FEMA-B-1969
Fort Mojave Indian Reservation | Fort Mojave Indian Tribe, 500 Merriman Avenue, Needles, CA 92363.
Unincorporated Areas of Mohave County | Mohave County Development Services, 3250 East Kino Avenue, Kingman, AZ 86409.
Walton County, Florida and Incorporated Areas
Docket No.: FEMA-B-1647
City of Freeport | City Hall, 112 State Highway 20 West, Freeport, FL 32439.
Unincorporated Areas of Walton County | Walton County Planning and Development Services Department, 31 Coastal Centre Boulevard, Santa Rosa Beach, FL 32459.
Douglas County, Georgia and Incorporated Areas
Docket No.: FEMA-B-1708; FEMA B-1968
City of Douglasville | City Hall, 6695 Church Street, Douglasville, GA 30134.
Unincorporated Areas of Douglas County | Douglas County Courthouse, 8700 Hospital Drive, Douglasville, GA 30134.
Buchanan County, Iowa and Incorporated Areas
Docket No.: FEMA-B-1933
City of Aurora | City Office, 313 Main Street, Aurora, IA 50607.
City of Brandon | City Hall, 400 North Street, Brandon, IA 52210.
City of Fairbank | City Hall, 116 East Main Street, Fairbank, IA 50629.
City of Hazleton | City Hall, 111 3rd Street North, Hazleton, IA 50641.
City of Independence | City Hall, 331 1st Street East, Independence, IA 50644.
City of Jesup | City Hall, 791 6th Street, Jesup, IA 50648.
City of Lamont | City Hall, 644 Bush Street, Lamont, IA 50650.
City of Quasqueton | City Hall, 113 Water Street North, Quasqueton, IA 52326.
City of Stanley | Mayor's Office, 128 East Main Street, Stanley, IA 50671.
City of Winthrop | City Clerk's Office, 354 Madison Street, Winthrop, IA 50682.
Unincorporated Areas of Buchanan County | Buchanan County Courthouse Zoning Office, 210 5th Avenue Northeast, Suite I, Independence, IA 50644.
Macomb County, Michigan (All Jurisdictions)
Docket No.: FEMA-B-1945
City of New Baltimore | City Hall, 36535 Green Street, New Baltimore, MI 48047.
City of St. Clair Shores | City Hall, 27600 Jefferson Avenue, St. Clair Shores, MI 48081.
Township of Chesterfield | Municipal Offices, 47275 Sugarbush Road, Chesterfield, MI 48047.
Township of Harrison | Administrative Offices, 38151 L'Anse Creuse, Harrison Township, MI, 48045.
Clay County, South Dakota and Incorporated Areas
Docket No.: FEMA-B-1936
City of Vermillion | City Hall, 25 Center Street, Vermillion, SD 57069.
Town of Wakonda | Town Office, 111 Ohio Street, Wakonda, SD 57073.
Unincorporated Areas of Clay County | Clay County Courthouse, 211 West Main Street, Vermillion, SD 57069.
Brazoria County, Texas and Incorporated Areas
Docket No.: FEMA-B-1860
City of Alvin | Public Services Facility Building Engineering Department, 1100 West Highway 6, Alvin, TX 77511.
City of Angleton | City Secretary's Office, 121 South Velasco Street, Angleton, TX 77515.
City of Brazoria | City Hall, 201 South Main Street, Brazoria, TX 77422.
City of Brookside Village | City Hall, 6243 Brookside Road, Brookside Village, TX 77581.
City of Clute | City Hall, 108 East Main Street, Clute, TX 77531.
City of Danbury | City Hall, 6102 5th Street, Danbury, TX 77534.
City of Freeport | City Hall, 200 West 2nd Street, Freeport, TX 77541.
City of Hillcrest Village | Hillcrest Village City Hall, 106 West Blackstone Lane, Alvin, TX 77511.
City of Iowa Colony | Iowa Colony City Hall, 12003 County Road 65, Rosharon, TX 77583.
City of Lake Jackson | City Hall, 25 Oak Drive, Lake Jackson, TX 77566.
City of Liverpool | City Hall, 8901 Calhoun Street, Liverpool, TX 77577.
City of Manvel | City Hall, 20025 Highway 6, Manvel, TX 77578.
City of Oyster Creek | City Hall, 3210 FM 523, Oyster Creek, TX 77541.
City of Pearland | Engineering and Capital Projects Department Engineering Division, 3519 Liberty Drive, Pearland, TX 77581.
City of Richwood | City Hall, 1800 Brazosport Boulevard North, Richwood, TX 77531.
City of Sandy Point | Brazoria County West Annex Building, 451 North Velasco Street, Suite 210, Angleton, TX 77515.
City of Surfside Beach | City Hall, 1304 Monument Drive, Surfside Beach, TX 77541.
City of Sweeny | City Hall, 102 West Ashley Wilson Road, Sweeny, TX 77480.
City of West Columbia | City Hall, 512 East Brazos Avenue, West Columbia, TX 77486.
Town of Holiday Lakes | Town Hall, 195 North Texas Avenue, Holiday Lakes, TX 77515.
Town of Quintana | Town Hall, 814 North Lamar Street, Quintana, TX 77541.
Unincorporated Areas of Brazoria County | Brazoria County West Annex Building, 451 North Velasco Street, Suite 210, Angleton, TX 77515.
Village of Bailey's Prairie | Bailey's Prairie Floodplain Administrator's Office, 201 South Velasco Street, Angleton, TX 77515.
Village of Bonney | Brazoria County West Annex Building, 451 North Velasco Street, Suite 210, Angleton, TX 77515.
Village of Jones Creek | City Hall, 7207 Stephen F. Austin Road, Jones Creek, TX 77541.
Caldwell County, Texas and Incorporated Areas
Docket No.: FEMA-B-1757
City of Luling | City Hall, 509 East Crockett Street, Luling, TX 78648.
City of Martindale | City Hall, 409 Main Street, Martindale, TX 78655.
City of San Marcos | City Hall, 630 East Hopkins Street, San Marcos, TX 78666.
Unincorporated Areas of Caldwell County | Caldwell County Courthouse, 110 South Main Street, Lockhart, TX 78644.
Guadalupe County, Texas and Incorporated Areas
Docket No.: FEMA-B-1757 and FEMA-B-1938
City of Luling | City Hall, 509 East Crockett Street, Luling, TX 78648.
City of Staples | Civic Center, 9615 FM 621, Staples, TX 78670.
Unincorporated Areas of Guadalupe County | Guadalupe County Environmental Health Department, 2605 North Guadalupe Street, Seguin, TX 78155.
Pierce County, Wisconsin and Incorporated Areas
Docket No.: FEMA-B-1932
Unincorporated Areas of Pierce County | Pierce County Courthouse, 414 West Main Street, Ellsworth, WI 54011.
Village of Spring Valley | Village Office, East 121 South 2nd Street, Spring Valley, WI 54767.

[FR Doc. 2020-18420 Filed 8-20-20; 8:45 am]

BILLING CODE 9110-12-P